DEPARTMENT OF COMMERCE

International Trade Administration

[A-122-867, A-560-833, A-580-902, A-552-825]

Utility Scale Wind Towers From Canada, Indonesia, the Republic of Korea, and the Socialist Republic of Vietnam: Postponement of Preliminary Determinations in the Less-Than-Fair-Value Investigations

AGENCY: Enforcement and Compliance, International Trade Administration, Department of Commerce.

DATES: Applicable December 3, 2019.

FOR FURTHER INFORMATION CONTACT: Michael J. Heaney at (202) 482-4475 (Canada); Brittany Bauer at (202) 482-3860 (Indonesia); Rebecca Janz at (202) 482-2972 (Republic of Korea (Korea)); and Joshua DeMoss at (202) 482-3362 (Socialist Republic of Vietnam (Vietnam)); AD/CVD Operations, Enforcement and Compliance, International Trade Administration, U.S. Department of Commerce, 1401 Constitution Avenue NW, Washington, DC 20230.

SUPPLEMENTARY INFORMATION:

Background

On July 29, 2019, the U.S. Department of Commerce (Commerce) initiated less-than-fair-value (LFTV) investigations of imports of utility scale wind towers from Canada, Indonesia, Korea, and Vietnam.¹ Currently, the preliminary determinations are due no later than December 16, 2019.

¹ See Utility Scale Wind Towers from Canada, Indonesia, the Republic of Korea, and the Socialist Republic of Vietnam: Initiation of Less-Than-Fair-Value Investigations, 84 FR 37992 (August 5, 2019).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Pursuant to 19 CFR 351.205(e), the petitioner must submit a request to postpone 25 days or more before the scheduled date of the preliminary determination and must state the reasons for postponement. Commerce will grant the request unless it finds compelling reasons to deny the request. See 19 CFR 351.205(e).

On November 19, 2019, the petitioner ² submitted timely requests that Commerce postpone the preliminary determinations in these LTFV investigations.³ The petitioner stated that the purpose of its requests is to provide Commerce with adequate time to solicit information from the respondents and to allow Commerce sufficient time to analyze the respondents' questionnaire responses.⁴ In accordance with 19 CFR 351.205(e), there are no compelling reasons to deny the request. Therefore, in accordance with section 733(c)(1)(A) of the Act and 19 CFR 351.205(e), we are postponing the preliminary determinations in these LTFV investigations by 50 days (i.e., 190 days after the date on which these investigations were initiated). Accordingly, Commerce is postponing the deadline for the preliminary determinations to February 4, 2020. Pursuant to section 735(a)(1) of the Act and 19 CFR 351.210(b)(1), the deadline for the final determinations of these investigations will continue to be 75 days after the date of the preliminary determinations, unless postponed.

² The petitioner in these LTFV investigations is the Wind Tower Trade Coalition.

³ See Petitioner's Letters, “Utility Scale Wind Towers from Canada: Request to Postpone Preliminary Determination,” “Utility Scale Wind Towers from Indonesia: Request to Postpone Preliminary Determination,” “Utility Scale Wind Towers from the Republic of Korea: Request to Postpone Preliminary Determination,” and “Utility Scale Wind Towers from the Socialist Republic Vietnam: Request to Postpone Preliminary Determination,” dated November 19, 2019.

⁴ Id.

This notice is issued and published pursuant to section 733(c)(2) of the Act and 19 CFR 351.205(f)(1).

Dated: November 26, 2019.
Jeffrey I. Kessler,
Assistant Secretary for Enforcement and Compliance.

[FR Doc. 2019-26139 Filed 12-2-19; 8:45 am]

BILLING CODE 3510-DS-P